DEPARTMENT OF ENERGY

Federal Energy Regulatory Commission

Combined Notice of Filings #1

Take notice that the Commission received the following electric rate filings:

Docket Numbers: ER11-4307-001.

Applicants: Green Mountain Energy Company.

Description: Green Mountain Energy Company submits tariff filing per 35.17(b): Amendment—docket number inserted 09192011 to be effective 10/11/2011.

Filed Date: 09/19/2011.

Accession Number: 20110919-5106.

Comment Date: 5 p.m. Eastern Time on Tuesday, October 11, 2011.

Docket Numbers: ER11-4308-001.

Applicants: Reliant Energy Northeast LLC.

Description: Reliant Energy Northeast LLC submits tariff filing per 35.17(b): Amendment—docket number inserted 09192011 to be effective 10/11/2011.

Filed Date: 09/19/2011.

Accession Number: 20110919-5107.

Comment Date: 5 p.m. Eastern Time on Tuesday, October 11, 2011.

Docket Numbers: ER11-4558-000.

Applicants: PJM Interconnection, LLC.

Description: PJM Interconnection, LLC submits tariff filing per 35.13(a)(2)(iii: PJM Queue No. NQ-047; Original Service Agreement No. 3055 to be effective 8/19/2011.

Filed Date: 09/19/2011.

Accession Number: 20110919-5061.

Comment Date: 5 p.m. Eastern Time on Tuesday, October 11, 2011.

Docket Numbers: ER11-4559-000.

Applicants: Black Hills/Colorado Electric Utility Company.

Description: Black Hills/Colorado Electric Utility Company, LP submits tariff filing per 35: OATT Compliance to be effective 8/16/2011.

Filed Date: 09/19/2011.

Accession Number: 20110919-5065.

Comment Date: 5 p.m. Eastern Time on Tuesday, October 11, 2011.

Docket Numbers: ER11-4560-000.

Applicants: Northern States Power Company, a Minnesota corporation.

Description: Northern States Power Company, a Minnesota corporation submits tariff filing per 35.13(a)(2)(iii: 2011-9-19_CAPX_Fargo_Phase-2_TCEA_Agmt to be effective 8/12/2011.

Filed Date: 09/19/2011.

Accession Number: 20110919-5089.

Comment Date: 5 p.m. Eastern Time on Tuesday, October 11, 2011.

Docket Numbers: ER11-4561-000.

Applicants: Northern States Power Company, a Minnesota corporation.

Description: Northern States Power Company, a Minnesota corporation submits tariff filing per 35.13(a)(2)(iii: 2011-9-19_CAPX_Fargo_Phase-2_OMA_Agmt_0.1.0 to be effective 8/12/2011.

Filed Date: 09/19/2011.

Accession Number: 20110919-5091.

Comment Date: 5 p.m. Eastern Time on Tuesday, October 11, 2011.

Docket Numbers: ER11-4562-000.

Applicants: Hawkeye Energy Greenport, LLC.

Description: Hawkeye Energy Greenport, LLC submits tariff filing per 35.12: Hawkeye Energy Greenport, LLC Baseline MBR Tariff to be effective 9/19/2011.

Filed Date: 09/19/2011.

Accession Number: 20110919-5094.

Comment Date: 5 p.m. Eastern Time on Tuesday, October 11, 2011.

Docket Numbers: ER11-4563-000.

Applicants: CenterPoint Energy Houston Electric, LLC.

Description: CenterPoint Energy Houston Electric, LLC submits tariff filing per 35.13(a)(1): TFO Tariff Interim Rate Revision to Conform with PUCT-Approved ERCOT Rate to be effective 9/6/2011.

Filed Date: 09/19/2011.

Accession Number: 20110919-5098.

Comment Date: 5 p.m. Eastern Time on Tuesday, October 11, 2011.

Docket Numbers: ER11-4564-000.

Applicants: Bollinger Energy Corporation.

Description: Report/Form of Bollinger Energy Corporation, Request to cancel market-based rate tariff in response the letter regarding Order No. 714 dated August 31, 2011.

Filed Date: 09/19/2011.

Accession Number: 20110919-5104.

Comment Date: 5 p.m. Eastern Time on Tuesday, October 11, 2011.

Docket Numbers: ER11-4565-000.

Applicants: Midwest Independent Transmission System Operator, Inc.

Description: Midwest Independent Transmission System Operator, Inc. submits tariff filing per 35.13(a)(2)(iii: R34 Amended GIA (R65 and J191) to be effective 9/20/2011.

Filed Date: 09/19/2011.

Accession Number: 20110919-5115.

Comment Date: 5 p.m. Eastern Time on Tuesday, October 11, 2011.

Docket Numbers: ER11-4565-000.

Applicants: Midwest Independent Transmission System Operator, Inc.

Description: Midwest Independent Transmission System Operator, Inc. submits tariff filing per 35.13(a)(2)(iii: R34 Amended GIA (R65 and J191) to be effective 9/20/2011.

Filed Date: 09/19/2011.

Accession Number: 20110919-5116.

Comment Date: 5 p.m. Eastern Time on Tuesday, October 11, 2011.

Docket Numbers: ER11-4566-000.

Applicants: PJM Interconnection, LLC.

Description: PJM Interconnection, LLC submits tariff filing per 35.13(a)(2)(iii: Queue Position T133 & T134; Original Service Agreement No. 3049 to be effective 8/19/2011.

Filed Date: 09/19/2011.

Accession Number: 20110919-5117.

Comment Date: 5 p.m. Eastern Time on Tuesday, October 11, 2011.

Docket Numbers: ER11-4567-000.

Applicants: Pypha Energy LLC.

Description: Pypha Energy LLC submits tariff filing per 35.1: Baseline MBR Tariff Filing to be effective 9/20/2011.

Filed Date: 09/20/2011.

Accession Number: 20110920-5000.

Comment Date: 5 p.m. Eastern Time on Tuesday, October 11, 2011.

Docket Numbers: ER11-4568-000.

Applicants: PacifiCorp.

Description: Termination of PacifiCorp Rate Schedule FERC No. 276, Nevada Power Interconnection Agreement in ER11-4568.

Filed Date: 09/19/2011.

Accession Number: 20110919-5131.

Comment Date: 5 p.m. Eastern Time on Tuesday, October 11, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 20, 2011.
Nathaniel J. Davis, Sr.,
Deputy Secretary.

[FR Doc. 2011-24885 Filed 9-27-11; 8:45 am]

BILLING CODE 6717-01-P